FEDERAL COMMUNICATIONS COMMISSION

Public Information Collections Approved by Office of Management and Budget

January 24, 2008.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Thomas Butler, Federal Communications Commission, (202) 418-1492 or via the Internet at Thomas.butler@fcc.gov.

SUPPLEMENTARY INFORMATION: OMB Control No.: 3060-0804.

OMB Approval Date: 1/17/2008.

Expiration Date: 7/31/2008.

Title: Universal Service—Rural Health Care Program/Rural Health Care Pilot Program.

Form Number(s): FCC Forms 465, 466, 466-A, and 467.

Estimated Annual Burden: 6,494 respondents; 59,464 responses; 68,420 total annual hours; 0.10-20 hours per response.

Needs and Uses: In the Telecommunications Act of 1996 (1996 Act), Congress specifically intended that rural health care providers be provided with “an affordable rate for the services necessary for the provision of telemedicine and instruction relating to such services.” In 1997, the Commission implemented this statutory directive by adopting the current Rural Health Care support mechanism, which provides universal service support to ensure that rural health care providers pay no more than their urban counterparts for their telecommunications needs and Internet access in the provision of health care services. Despite the Commission's efforts to increase the utility of the Rural Health Care support mechanism, the program has yet to fully achieve the benefits intended by the statute and the Commission. In particular, health care providers continue to lack access to the broadband facilities needed to support the types of advanced telehealth applications, like telemedicine, that are vital to bringing medical expertise and the advantages of modern health technology to rural areas of the Nation. In response, the Commission issued the 2007 Rural Health Care Pilot Program Selection Order (WC Docket No. 02-60; FCC 07-198) which selected 69 participants for the universal service Rural Health Care Pilot Program (which was originally established by the Commission in September 2006). These 69 participants represent 42 states and 3 U.S. territories and will be eligible for approximately $417 million in universal service support over three years (or $139 million per funding year) to: (1) Support up to 85 percent of the costs associated with the construction of state or regional broadband health care networks and with the advanced telecommunications and information services provided over those networks; and (2) support up to 85 percent of the costs of connecting to Internet2 or National LambdaRail, which are both dedicated nationwide backbones, or to the public Internet. To minimize the burden on Pilot Program participants and to streamline the process, the Commission generally uses the same forms as the existing Rural Health Care support mechanism. For example, Selected Participants, in order to receive support, must submit an FCC Form 465 (seeking bids), FCC 466-A (selection of service provider), and FCC Form 467 (notification of service initiation). Due to the unique structure of the Pilot Program, however, in the 2007 Rural Health Care Pilot Program Selection Order, the Commission provides guidance regarding how these forms should be completed and additional information is required from Selected Participants, including, proposed network costs worksheets, certifications, letters of agency from each participating health care provider, invoices showing actual incurred costs, and, if applicable, network design studies.

Federal Communications Commission.
Marlene H. Dortch,
Secretary.

[FR Doc. E8-2365 Filed 2-13-08; 8:45 am]

BILLING CODE 6712-01-P